DEPARTMENT OF TRANSPORTATION

Federal Aviation Administration

Notice of Intent To Rule on Application To Impose and Use the Revenue From a Passenger Facility Charge at Orlando International Airport

AGENCY: Federal Aviation Administration (FAA), DOT.

ACTION: Notice of intent to rule on application.

SUMMARY: The FAA proposes to rule and invites public comment on the application to impose and use the revenue from a Passenger Facility Charge (PFC) at Orlando International Airport, Orlando, Florida.

DATES: Comments must be received on or before May 2, 2014.

ADDRESSES: Comments on this application may be mailed or delivered in triplicate to the FAA at the following address: Orlando Airports District Office, 5950 Hazeltine National Drive, Suite 400, Orlando, Florida 32822-5024.

In addition, one copy of any comments submitted to the FAA must be mailed or delivered to Phillip N. Brown, Executive Director of the Greater Orlando Aviation Authority at the following address: Orlando International Airport, One Jeff Fuqua Boulevard, Orlando, Florida 32827-4399. Air carriers and foreign air carriers may submit copies of written comments previously provided to the Greater Orlando Aviation Authority under section 158.23 of Part 158.

FOR FURTHER INFORMATION CONTACT: Ms. Marisol Elliott, Program Manager, FAA Orlando Airports District Office, 5950 Hazeltine National Drive, Suite 400, Orlando, Florida 32822-5024, (407) 812-6331, ext. 117. The application may be reviewed in person at this same location.

SUPPLEMENTARY INFORMATION: The FAA proposes to rule and invites public comment on the application to impose and use the revenue from a PFC at Orlando International Airport under the provisions of the 49 U.S.C. 40117 and Part 158 of the Federal Aviation Regulations (14 CFR Part 158).

On November 22, 2013, the FAA determined that the application to impose and use the revenue from a PFC submitted by the Greater Orlando Aviation Authority was not substantially complete within the requirements of section 158.25 of Part 158. The environmental review required by the National Environmental Policy Act (NEPA) of 1969 had not been completed for the projects contained in the application. Section 158.25(c)(1)(ii)(B) requires that this environmental review be complete for an application submitted for authority to use PFC revenue. In addition, the FAA requested that the Greater Orlando Aviation Authority provide additional information on the projects contained in the application.

The environmental review of the projects in the application is now complete and the Greater Orlando Aviation Authority has submitted the supplemental information to complete this application. The FAA will approve or disapprove the application, in whole or in part, not later than July 11, 2014.

The following is a brief overview of the application:

Application Number: 14-17-C-00-MCO.

Proposed charge effective date: July 1, 2034.

Proposed charge expiration date: August 1, 2038.

Level of the proposed PFC: $4.50.

Total estimated PFC revenue: $460,000,000.

Brief description of proposed project(s): South Airport Automated People Mover (APM) System, Stations, and Associated Facilities—Design and Construction; South Airport Automated People Mover (APM) System—Roadways, Curbs, and Infrastructure—Design and Construction; South Airport APM Ticketing and Baggage Check-In Facility—Design and Construction.

Class or classes of air carriers which the public agency has requested not be required to collect PFCs: None.

Any person may inspect the application in person at the FAA office listed above under FOR FURTHER INFORMATION CONTACT and at the FAA Regional Airports office located at: FAA Southern Region Headquarters, 1701 Columbia Avenue, College Park, Georgia 30337.

In addition, any person may, upon request, inspect the application, notice and other documents germane to the application in person at the offices of the Greater Orlando Aviation Authority.

Issued in Orlando, Florida on March 20, 2014.
Bart Vernace,
Manager, Orlando Airports District Office, Southern Region, Federal Aviation Administration.

[FR Doc. 2014-07290 Filed 4-1-14; 8:45 am]

BILLING CODE 4910-13-P